OFFICE OF THE UNITED STATES TRADE REPRESENTATIVE

Fiscal Year 2019 Tariff-Rate Quota Allocations for Refined and Specialty Sugar and Sugar-Containing Products

AGENCY: Office of the United States Trade Representative.

ACTION: Notice.

SUMMARY: The Office of the United States Trade Representative (USTR) is providing notice of the Fiscal Year (FY) 2019 (Oct. 1, 2018 through Sept. 30, 2019) in-quota quantity of the tariff-rate quotas for imports of certain sugars, syrups and molasses (also known as refined sugar), specialty sugar, and sugar-containing products.

FOR FURTHER INFORMATION CONTACT: Dylan Daniels, Office of Agricultural Affairs at 202-395-6095 or Dylan.T.Daniels@ustr.eop.gov.

SUPPLEMENTARY INFORMATION: Pursuant to Additional U.S. Note 5 to Chapter 17 of the Harmonized Tariff Schedule of the United States (HTS), the United States maintains tariff-rate quotas (TRQs) for imports of refined sugar. Pursuant to Additional U.S. Note 8 to Chapter 17 of the HTS, the United States maintains a TRQ for imports of sugar-containing products. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On June 29, 2018, the Secretary of Agriculture announced the establishment of the in-quota quantity for the FY 2019 refined sugar TRQ at 192,000 metric tons raw value (MTRV) for which the sucrose content, by weight in the dry state, must have a polarimeter reading of 99.5 degrees or more. This amount includes the minimum quantity to which the United States is committed under the WTO Agreement—22,000 MTRV, of which 1,656 MTRV is reserved for specialty sugar—and an additional 170,000 MTRV for specialty sugars. The U.S. Trade Representative is allocating 10,300 MTRV of refined sugar to Canada, 2,954 MTRV to Mexico, and 7,090 MTRV of refined sugar to be administered on a first-come, first-served basis.

Imports of all specialty sugar will be administered on a first-come, first-served basis in five tranches. The Secretary has announced that the total in-quota quantity of specialty sugar will be the 1,656 MTRV included in the WTO minimum plus an additional 170,000 MTRV. The first tranche of 1,656 MTRV will open October 1, 2018. All types of specialty sugars are eligible for entry under this tranche. The second tranche of 50,000 MTRV will open on October 10, 2018. The third tranche of 50,000 MTRV each will open on January 23, 2019. The fourth and fifth tranches, both of 35,000 MTRV, will open on April 17, 2019 and July 17, 2019, respectively. The second, third, fourth, and fifth tranches will be reserved for organic sugar and other specialty sugars not currently produced commercially in the United States or reasonably available from domestic sources.

With respect to the in-quota quantity of 64,709 metric tons (conversion factor: 1 metric ton = 1.10231125 short tons) of the TRQ for imports of certain sugar-containing products maintained under Additional U.S. Note 8 to Chapter 17 of the HTS, the U.S. Trade Representative is allocating 59,250 metric tons to Canada. The remainder, 5,459 metric tons, of the in-quota quantity is available for other countries on a first-come, first-served basis.

Refined and specialty sugar and sugar-containing products for FY 2019 TRQs may enter the United States as of October 1, 2018.

Robert Lighthizer,
United States Trade Representative.

[FR Doc. 2018-20751 Filed 9-24-18; 8:45 am]

BILLING CODE 3290-F8-P